DEPARTMENT OF ENERGY

Federal Energy Regulatory Commission

[Docket No. RP01-245-021]

Transcontinental Gas Pipe Line Corporation; Notice To Place Tariff Sheets Into Effect

March 7, 2007.

Take notice that on February 28, 2007, Transcontinental Gas Pipe Line Corporation (Transco) tendered for filing as part of its FERC Gas Tariff, Third Revised Volume No. 1, the tariff sheets are listed in Appendix A to the filing, are proposed to become effective March 1, 2007.

Transco states that the purpose of the filing is to place into effect on March 1, 2007 revised tariff sheets that implement a Stipulation and Agreement approved in the referenced docket which provides for, among other things, (i) An allocation of a fixed amount of the annual costs of service of Rate Schedules WSS, GSS, LSS, SS-2 and S-2 storage to system transportation, incremental transportation and to the transportation component of the bundled storage services, and (ii) the unbundling of Emergency Eminence Storage service from Rate Schedules FT, FTN and FT-G and establishing a stand alone service under Rate Schedule EESWS.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Philis J. Posey,
Acting Secretary.

[FR Doc. E7-4481 Filed 3-12-07; 8:45 am]

BILLING CODE 6717-01-P